SMALL BUSINESS ADMINISTRATION

National Advisory Council; Public Meeting

The U.S. Small Business Administration's National Advisory Council will be hosting a public meeting via conference call to discuss such matters that may be presented by members, staff of the U.S. Small Business Administration, or interested others. The conference call will take place on Monday, November 29, 2004, at 11:30 a.m. eastern standard time. The call in number is 1-866-740-1260 with access code 3711001.

Additionally, we will be using http://www.readytalk.com to offer a live display of a PowerPoint Presentation. The access code is the same: 3711001. Please log-in 10 minutes before the conference.

Anyone wishing to make an oral presentation to the Board must contact Balbina Caldwell, Director, National Advisory Council, no later than Friday, November 19, 2004, 409 3rd Street, SW., Washington, DC 20516, (202) 205-6914 phone, or (202) 481-4678 fax, or e-mail: Balbina.Caldwell@sba.gov.

Matthew K. Becker,
Committee Management Officer.

[FR Doc. 04-25752 Filed 11-19-04; 8:45 am]

BILLING CODE 8025-01-P